DEPARTMENT OF COMMERCE

International Trade Administration

[A-469-812]

Postponement of Final Determination of Antidumping Duty Investigation: Certain Cold-Rolled Carbon Steel Flat Products from Spain

AGENCY: Import Administration, International Trade Administration, Department of Commerce.

SUMMARY: The Department of Commerce (“the Department”) is postponing the final determination in the antidumping duty investigation of certain cold-rolled carbon steel flat products from Spain from July 10, 2002 until no later than September 23, 2002.

EFFECTIVE DATE: June 12, 2002.

FOR FURTHER INFORMATION CONTACT: Irina Itkin at (202) 482-0656, Import Administration, International Trade Administration, U.S. Department of Commerce, 14th Street and Constitution Avenue, NW, Washington, DC 20230.

SUPPLEMENTARY INFORMATION:

Applicable Statute and Regulations

Unless otherwise indicated, all citations to the statute are references to the provisions effective January 1, 1995, the effective date of the amendments made to the Tariff Act of 1930 (“the Act”) by the Uruguay Round Agreements Act. In addition, unless otherwise indicated, all citations to the Department's regulations are to the regulations codified at 19 CFR part 351 (2001).

Postponement of Final Determination

This investigation was initiated on October 18, 2001. See Notice of Initiation of Antidumping Duty Investigations: Certain Cold-Rolled Carbon Steel Flat Products From Argentina, Australia, Belgium, Brazil, France, Germany, India, Japan, Korea, the Netherlands, New Zealand, the People's Republic of China, the Russian Federation, South Africa, Spain, Sweden, Taiwan, Thailand, Turkey, and Venezuela, 66 FR 54198 (Oct. 26, 2001) (Initiation Notice). The period of investigation is July 1, 2000, through June 30, 2001. On May 9, 2002, the Department published in the Federal Register the preliminary determination in the antidumping duty investigation of imports of certain cold-rolled carbon steel flat products from Spain. See Notice of Preliminary Determination of Sales at Less than Fair Value: Certain Cold-Rolled Carbon Steel Flat Products from Spain, 67 FR 31248 (May 9, 2002).

Pursuant to section 735(a)(2)(A) of the Act, on May 13, 2002, the respondent requested that the Department postpone its final determination until no later than 135 days after the date of the publication of the preliminary determination in the Federal Register. In accordance with 19 CFR 351.210(e)(2), the respondent consented to the extension of provisional measures to no longer than six months in its request for postponement. In accordance with 19 CFR 351.210(b)(2)(ii), because our preliminary determination is affirmative, because no compelling reasons for denial exist, and because the exporter accounts for a significant proportion of exports of subject merchandise, we are granting the respondent's request and are postponing the final determination until no later than September 23, 2002. Furthermore, any provisional measures imposed by this investigation will be extended from a four-month period to not more than six months.

This notice is issued and published pursuant to section 735(d) of the Act and 19 CFR 351.210(g).

Dated: June 6, 2002
Faryar Shirzad,
Assistant Secretary for Import Administration.

[FR Doc. 02-14833 Filed 6-11-02; 8:45 am]

BILLING CODE 3510-DS-S